DEPARTMENT OF COMMERCE

Foreign-Trade Zones Board

[S-191-2019]

Approval of Subzone Status; United Furniture Industries, Inc.; Nettleton and Amory (Monroe County), Mississippi

On September 23, 2019, the Executive Secretary of the Foreign-Trade Zones (FTZ) Board docketed an application submitted by the Greater Mississippi Foreign-Trade Zone, Inc., grantee of FTZ 158, requesting subzone status subject to the existing activation limit of FTZ 158, on behalf of United Furniture Industries, Inc., in Nettleton and Amory, Mississippi.

The application was processed in accordance with the FTZ Act and Regulations, including notice in the Federal Register inviting public comment (84 FR 51109, September 27, 2019). The FTZ staff examiner reviewed the application and determined that it meets the criteria for approval.

Pursuant to the authority delegated to the FTZ Board Executive Secretary (15 CFR Sec. 400.36(f)), the application to establish Subzone 158H was approved on December 26, 2019, subject to the FTZ Act and the Board's regulations, including Section 400.13, and further subject to FTZ 158's 2,000-acre activation limit.

Dated: December 26, 2019.
Andrew McGilvray,
Executive Secretary.

[FR Doc. 2019-28264 Filed 12-30-19; 8:45 am]

BILLING CODE 3510-DS-P